DEPARTMENT OF HEALTH AND HUMAN SERVICES

Centers for Disease Control and Prevention

[Docket Number NIOSH-190]

Revised Document Posted: NIOSH List of Antineoplastic and Other Hazardous Drugs in Healthcare Settings 2012, Correction

AGENCY: National Institute for Occupational Safety and Health (NIOSH) of the Centers for Disease Control and Prevention (CDC), Department of Health and Human Services (HHS).

ACTION: A notice of issuance of Final Guidance Publication was published in the Federal Register June 27, 2012, (77 FR 38297). This notice is corrected as follows:

On page 38297, the Docket number has been changed to NIOSH-190.

FOR FURTHER INFORMATION CONTACT: Barbara MacKenzie, NIOSH, Robert A. Taft Laboratories, 4676 Columbia Parkway, MS-C26, Cincinnati, OH 45226, Telephone (513) 533-8132, email hazardousdrugs@cdc.gov.

Dated: July 6, 2012.
John Howard,
Director, National Institute for Occupational Safety and Health, Centers for Disease Control and Prevention.

[FR Doc. 2012-17002 Filed 7-11-12; 8:45 am]

BILLING CODE 4163-19-P